DEPARTMENT OF HEALTH AND HUMAN SERVICES

Health Care Financing Administration

42 CFR Parts 411 and 424

[HCFA-1809-F2]

Medicare and Medicaid Programs; Physicians' Referrals to Health Care Entities With Which They Have Financial Relationships: Delay of Effective Date of Final Rule and Technical Amendment

AGENCY: Health Care Financing Administration (HCFA), DHHS.

ACTION: Delay of effective date of final rule and technical amendment.

SUMMARY: In accordance with the memorandum of January 20, 2001, from the Assistant to the President and Chief of Staff, entitled “Regulatory Review Plan,” published in the Federal Register on January 24, 2001, this action temporarily delays for 60 days the effective date of revised § 424.22 contained in the rule entitled “Medicare and Medicaid Programs; Physicians' Referrals to Health Care Entities With Which They Have Financial Relationships,” published in the Federal Register on January 4, 2001 (66 FR 856). That rule prohibits physicians from referring patients for the furnishing of certain designated health services to health care entities with which they (or their immediate family members) have financial relationships under the Medicare and Medicaid programs. Home health services are a designated health service. Section 424.22 revises the physician certification and plan of treatment requirements for home health services to comply with provisions in section 1877 of the Social Security Act (the Act). Section 424.22, which would have become effective February 5, 2001, will now become effective April 6, 2001.

The 60-day delay in effective date is necessary to give Department officials the opportunity for further review and consideration of new regulations, consistent with the Assistant to the President's memorandum of January 20, 2001.

DATES: The effective date of the revision to paragraph (d) and the removal of paragraphs (e), (f), and (g) in § 424.22 of the final rule entitled “Physicians” Referrals to Health Care Entities With Which They Have Financial Relationships,” published in the Federal Register on January 4, 2001 (66 FR 856), is delayed for 60 days, from February 5, 2001 to a new effective date of April 6, 2001.

FOR FURTHER INFORMATION CONTACT: Joanne Sinsheimer, Center for Health Plans and Providers, Health Care Financing Administration, 7500 Security Boulevard, Baltimore, Maryland 21244, (410) 786-4620.

SUPPLEMENTARY INFORMATION:

Technical Correction

In FR Doc. 01-4 of January 4, 2001 (66 FR 856), there was a technical error. In amendatory instruction number 2, in column three, on page 962, we correctly stated that in § 424.22, paragraph (d) was revised and paragraphs (e), (f), and (g) were removed. We intended that these changes would take effect at the same time, that is, February 5, 2001 (now being delayed until April 6, 2001). However, in the “Effective date” section of the January 4, 2001 final rule, we indicated that only paragraph (d) of § 424.22 would take effect February 5, 2001 (now April 6, 2001). We failed to state that the removal of paragraphs (e), (f), and (g) of § 424.22 would also be effective February 5, 2001 (now April 6, 2001). This document corrects that error.

The exceptions in § 424.22(e) through (g) have been superseded by section 1877 of the Act. As noted in the preamble to the January 4, 2001 final rule, we believe that we do not have the legal authority to retain these exceptions in any meaningful way. We therefore explained that we did not intend to include the exceptions in the revised home health certification regulations (66 FR 936-937). As we pointed out in the preamble to the January 9, 1998 proposed rule (63 FR 1680), even if a physician and a home health agency are involved in an arrangement that meets one of the home health exceptions at issue, the arrangement simultaneously remains subject to the requirements in section 1877 of the Act.

Correction of Error in the Preamble

On page 856, in column two, the “Effective date” section is corrected to read as follows:

“Effective date: The regulations delineated in Phase I of this rulemaking are effective on January 4, 2002, except for the revision to paragraph (d) and the removal of paragraphs (e), (f), and (g) in § 424.22, which are effective April 6, 2001.”

(Catalog of Federal Domestic Assistance Program No. 93.773 Medicare—Hospital Insurance Program; No. 93.774, Medicare—Supplementary Medical Insurance Program; No. 93.778, Medical Assistance Program)

Dated: January 26, 2001.
Michael McMullan,
Acting Deputy Administrator, Health Care Financing Administration.

Approved: January 30, 2001.
David Satcher,
Acting Secretary.

[FR Doc. 01-2937 Filed 2-1-01; 8:45 am]

BILLING CODE 4120-01-P